DEPARTMENT OF AGRICULTURE

Forest Service

San Bernardino National Forest; California; Omya Sentinel and Butterfield Quarry Expansion Project

AGENCY: Forest Service, USDA.

ACTION: Notice of intent to prepare an environmental impact statement and environmental impact report.

SUMMARY: Omya California (Omya), a division of Omya Inc., has submitted the following applications:

• An Amended Plan of Operations and Reclamation Plan to the U.S. Department of Agriculture, Forest Service, San Bernardino National Forest (SBNF); and

• A Mining and Land Reclamation Plan Conditional Use Permit application submitted to the County of San Bernardino (County).

Combined, these applications propose the expansion of the existing Sentinel and Butterfield Quarries. The existing permitted Sentinel and Butterfield limestone quarries are located on mining claims within the SBNF. Known limestone ore resources, within the proposed quarry expansions, will add an additional 20 years life to the Sentinel Quarry, add an additional 40 years life to the Butterfield Quarry, and will allow mining at both quarries to be extended until 2055. Depending on market demand, the combined Sentinel and Butterfield Quarries average ore production rates will be approximately 680,000 tons per year compared to the 3-year average between 2004-2006 of approximately 378,000 tons per year. Reclamation will occur concurrently with mining. The proposed expansion includes 48.7 acres of disturbance at the Sentinel Quarry and 28.8 acres of disturbance at the Butterfield Quarry, for a total of 77.3 acres. Quarry development and expansion will be phased. Disturbance proposed for the project includes expansion of existing Sentinel and Butterfield Quarries, expansion of associated overburden placement sites, additional internal access roads and ancillary facility areas, and minor adjustments to existing disturbance boundaries. There are no new quarries, haul roads or overburden sites in this plan, only the phased expanded development and reclamation of the existing Sentinel and Butterfield Quarries.

Implementation of the Proposed Project will require discretionary approvals from Federal, State, and local agencies and, therefore, this project is subject to the environmental review requirements of both the National Environmental Policy Act (NEPA) and the California Environmental Quality Act (CEQA). To ensure coordination between the NEPA and CEQA processes, and to avoid duplication of effort, a joint Environmental Impact Statement (EIS) and Environmental Impact Report (EIR) is being prepared as recommended by CEQA Guidelines Section 15222 and 40 CFR 1506.25. The Forest Service is the NEPA Lead Agency and the County will be the CEQA Lead Agency for the joint EIR/EIS. As Lead Agency for the NEPA process, the Forest Service issues this Notice of Intent (NOI), as required by NEPA, for the Project. The County will issue a separate Notice of Preparation (NOP), as required for CEQA for the Proposed Project.

Comments are being requested to help identify significant issues or concerns related to the proposed action, to determine the scope of the issues (including alternatives) that need to be analyzed and to eliminate from detailed study those issues that are not significant. Supporting documentation should be included with comments recommending that the EIR/EIS address specific environmental issues.

DATES: Comments concerning the scope of the analysis must be received by April 1, 2013. The draft EIR/EIS is expected October 2013 and the final EIR/EIS is expected February 2014.

ADDRESSES: Send written comments to Maya Rohr, Omya Sentinel and Butterfield—Quarries Expansion Project, Sespe Consulting, 5920 Friars Road, Suite 103, San Diego, CA 92108. Comments may also be sent via email to mrohr@sespeconsulting.com.

Public Scoping meetings will be held on March 11, 2013 at the Big Bear Discovery Center, 40971 North Shore Drive (Highway 38), Fawnskin, California 92333 beginning at 5 p.m. PST, and March 12, 2013 at the Lucerne Valley Community Center, 33187 Highway 247 East, Lucerne Valley, California 92356 beginning at 5 p.m. PST.

It is important that reviewers provide their comments at such times and in such a way that they are useful to the Agency's preparation of the EIR/EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Maya Rohr, Senior Project Manager, Sespe Consulting at (619) 894-8669 or mrohr@sespeconsulting.com.

Individuals who use telecommunication devices for the deaf (TDD) may call the Federal Information Relay Service (FIRS) at 1-800-877-8339 between 8 a.m. and 8 p.m., Eastern Time, Monday through Friday.

SUPPLEMENTARY INFORMATION: Omya California submitted the Amended Plan of Operations and Reclamation Plan for the proposed expansion of the existing Butterfield Limestone Quarry to the San Bernardino National Forest, on November 1, 2010. The project was scoped as an Environmental Assessment (EA), and through the analysis of the comments received, the Responsible Official determined that an EIS would be prepared. At that time, the project was expanded to include additional expansion at the Sentinel Quarry as well.

The project site is located approximately 7.5 miles south of the community of Lucerne Valley and 5 miles north of Big Bear Lake within the SBNF in San Bernardino County, California, and is accessed by the vested Crystal Creek Haul Road. The project area is within portions of Sections 23, 24, and 25 Township 3 North, Range 1 West, SBBM. The Butterfield and Sentinel Quarries are located entirely within portions of approximately 954 acres of unpatented placer claims controlled by Omya located on public land administered by the Forest Service. These claims include Crystal Creek 1, 2, 4, 13 and 14, Slope North and King 3.

Both quarries have been mined by Omya since 1977. The Sentinel Quarry is currently permitted to operate through the year 2035, and the Butterfield Quarry through 2015. Known limestone resources, with the proposed quarry expansions, will add an additional 40 years of operations for Butterfield (2016 through 2055) and a proposed additional 20 years for the Sentinel Quarry (2036 through 2055). Depending on market demand, average ore production rates to the processing plant in Lucerne Valley will increase to approximately 680,000 tons of ore to the plant per year, compared to the 3-year average between 2004-2006 of approximately 378,000 tons per year.

The previously approved State Mining and Reclamation Act (SMARA) Reclamation Plans (2003) include a site specific approved revegetation plan, including growth media salvage, organics placement, seeding and revegetation, seed collection and propagation, irrigation, site cleanup, public safety, rock and fill slope stability, drainage and erosion controls, monitoring and maintenance plan and bond release criteria.

Purpose and Need for Action

Omya submitted an amended Plan of Operations and Reclamation Plan to the Forest Service, and a Conditional Use Permit application and Reclamation Plan to the County. These submittals describe the proposed expansion of the existing Sentinel and Butterfield Quarries. The Forest Service is analyzing the surface use of National Forest System lands in connection with operations authorized by the United States mining laws (30 U.S.C. 21-54). The United States mining laws confer a statutory right to enter upon the public lands to search for minerals, and require that these activities shall be conducted so as to minimize adverse environmental impacts on National Forest System surface resources (36 CFR 228.8). The responsibility for managing mineral resources is in the Secretary of the Interior.

Within the United States, productive deposits of white, high purity limestone are found in only a few areas. The Omya deposits are one of these sources of high calcium limestone that can be used as whiting. Whiting is used in the form of nontoxic fillers and extenders in a large number of products ranging from paper products to environmental cleanup, carpet backing, plastics, PVC, paint, paper and other building products. Limestone mining provides numerous environmental benefits including fewer trees harvested for paper making, less petroleum products utilized and less greenhouse gases produced. Limestone can also be used as a substitute for other components in industrial processes and the manufacture of consumer products.

Proposed Action

The proposed expansion includes 48.7 acres of disturbance at the Sentinel Quarry and 28.8 acres of disturbance at the Butterfield Quarry for a total of 77.3 acres. Disturbance proposed for this project includes expansion of existing Sentinel and Butterfield Quarries, expansion of associated overburden placement sites, haul road and ancillary facility areas, and minor adjustments to existing disturbance boundaries. Reclamation for the inactive Cloudy and Claudia quarries, overburden stockpiles, and haul roads on Forest Service lands, including reclamation of the Crystal Creek Haul Road, are covered in the 1994 approved Reclamation Plan and incorporated into the proposed Amended Plan. There are no changes to these sites with the exception of extending the years of use of the Crystal Creek Haul Road by 10 years from 2046 to 2055 followed by 10 years of reclamation. There are no new quarries, haul roads or overburden sites in this plan, only the phased expanded development and reclamation of existing Sentinel Quarry and Butterfield Quarry.

Both the Sentinel and Butterfield Quarries are multi-bench open pit mines where five grades of ore are selectively mined. The ore is drilled and blasted, loaded into haul trucks, and hauled to a crusher located near the Sentinel Quarry (Sentinel crusher). The Sentinel resources are mined in 30-foot cuts with a 30-35 foot safety bench approximately every 60 feet of depth and will have up to 11 benches. The Butterfield deposit is mined in 25 foot cuts with a safety bench approximately every 50 feet and will have up to 8 benches. Bench height has been determined as a result of detailed studies of the geologic structure. Face angles for both quarries average 70 degrees. The highest level of the pit at the Sentinel Quarry is at an elevation of 7,600 feet above mean sea level (amsl) and mining will ultimately reach 7,000 feet amsl. The highest level of the pit at the Butterfield Quarry is 7,900 feet and mining will ultimately reach 7,650 feet amsl.

Project Phasing. Although mining is more or less continuous, the development of the quarries will be phased. The proposed expansion for both quarries includes four (4) 10-year mining phases or pushbacks starting in the year 2016 for the Sentinel Quarry and 2015 for the Butterfield Quarry. The Sentinel quarry will be progressively developed to the south, west, and east property line, and eventually deepened to the footwall to reach the final depth of 7,000 feet amsl. Backfilling will start on the northern wall and gradually filling the quarry to approximate original contours. The Butterfield quarry will be mined during the first four phases from east to west on several levels within the quarry and will eventually deepen to reach a final depth of 7,700 (western portion) to 7,650 (eastern portion) feet amsl. During mining of the western half of the Butterfield Quarry, concurrent backfilling of the eastern quarry area will occur. Ultimately the eastern portion will be completely backfilled to approximate original contours. The overburden will be progressively placed in the eastern portion of the Butterfield Quarry, but only after those portions of the quarry have reached their final outer limit and the ore has been mined out. Phase 5 involves reclamation.

Reclamation. To minimize impacts to the surrounding environment, Omya proposes to reclaim the quarry sites in a manner that meets both Forest Service Minerals Regulations (36 CFR part 228, Subpart A), under the jurisdiction of the Forest Service, and the California Surface Mining and Reclamation Act of 1975, as amended (SMARA), which is implemented by the County.

The Forest Service approved the previous Omya Umbrella Plan of Operations and Reclamation Plan in 1988. The SMARA Reclamation Plan (94M-02) was approved by the Forest Service and the County in 1994. The Forest Service approved the existing Plan of Operations and Reclamation Plan for Butterfield and Sentinel Quarries in 2002, following completion of an environmental assessment and evaluation of the Plan of Operations. The SMARA Reclamation Plan was amended and approved by the County in 2003.

No changes in the approved revegetation plans are proposed other than increased acres and timing changes. Timing schedules are revised for the development and reclamation of the Sentinel and Butterfield quarries as detailed in the Amended Plan of Operations and Reclamation Plan. Reclamation costs for the quarry sites have been revised. Reclamation will be monitored as required in the approved monitoring plan for 10 years, and the bond reviewed yearly and adjusted to reflect completed reclamation, new disturbance, and variations in the economy (inflation).

Final reclamation will take place within 10 years of terminating mining activities. All remaining equipment will be removed, stockpiles will either be removed or used during reclamation, and internal roads not needed for site access, reclamation, and revegetation and general site monitoring will be reclaimed. Final sloping of quarry walls, backfilled areas, and overburden stockpiles; erosion control; and revegetation of any unreclaimed areas and waste rock stockpiles will be conducted. Some haul roads may be left onsite for use in the revegetation and monitoring activities and for overall site public safety. Ongoing maintenance of fencing, signs, and erosion control will be conducted. Roads not needed for site and quarry access will be ripped, covered with available growth media, and revegetated. Other onsite roads needed for quarry and pad access will be reclaimed after reclamation of quarries and pads are certified complete, as determined by the Forest Service, in order to allow access to all reclamation areas.

Avoidance/Minimization and Environmental Protection Measures. The Amended Plan of Operations includes avoidance/minimization and environmental protection measures, including:

1. Quit claim to the SBNF 300 acres of unpatented mining claims held within the SBNF which are known to have occupied endangered species habitat agreed upon by the Forest Service and consistent with the 2003 Carbonate Habitat Management Strategy (CHMS).

2. Design the mine plan to deposit future overburden into existing overburden areas and completed quarries as much as feasible to avoid possible impacts to existing cushenbury oxytheca populations.

3. Submit additional reclamation bond to cover the new disturbance in the expansion areas prior to starting the development work.

4. Implement a Dust Management Plan (DMP) for the quarry expansion areas.

5. Implement an Employee Awareness Plan that will provide information, training, and protection measures on the following:

A. Mining within Critical Habitat for listed plant species in cooperation with United States Fish and Wildlife Service (USFWS) and Forest Service.

B. Mining in proximity to an area of Forest Service land segregated from mineral entry and location in cooperation with BLM and Forest Service (CHMS designated refugia).

C. Awareness and protection measures about bighorn sheep in cooperation with USFWS, California Department of Fish and Game (CDFG), and Forest Service.

D. Benefits of preserving heritage resources in cooperation with the Forest Service.

6. Continue maintaining the water guzzler for bighorn sheep near the north end of the Sentinel Quarry.

7. Continue support of CDFG bighorn sheep studies during the mining project.

8. Dispose of sediment from runoff control basins to pre-approved sites rather than side cast down slopes.

9. As areas become available after the completion of mining, implement concurrent reclamation/revegetation of completed quarries and overburden stockpiles to reduce visual impacts through backfilling, recontouring and slope reduction, growth media and habitat log placement, revegetation with native plant species, and colorization as applicable.

10. Any unexpected or unforeseen events will result in immediate notification to the Forest Service. If conditions are encountered that vary significantly from the assumptions used in the mine design and environmental assessments, Omya will coordinate with the Forest Service to determine required actions.

11. Monitoring as described below is incorporated to be part of the approved Plan of Operations: Forest Mine Administrator, Certified Mineral Examiner or other qualified specialists will document and assure the avoidance/minimization and environmental protection measures incorporated into the Plan of Operations and the Decision are being followed and that they are effective in protecting the environment. Inspections will occur during the life of the project at least once a year to document the site conditions and to assure the Plan of Operations is being followed. If it is determined that a particular environmental protection measure is not adequately protecting surface resources, the Plan of Operations will be modified to correct the situation. Significant changes may require additional analysis and documentation in compliance with the National Environmental Policy Act.

Lead and Cooperating Agencies

The Forest Service, as lead agency under NEPA, and County of San Bernardino, as the lead state agency under CEQA, will be preparing a joint EIR/EIS. This EIR/EIS will analyze and disclose the potential effects of the proposed limestone quarry expansion. The Mojave Desert Air Quality Management District has agreed to participate as a cooperating agency and to provide expertise regarding the proposed actions' relationship to the relevant objectives of regional, State and local land use plans, policies and controls.

Responsible Official

The Responsible Official under NEPA for the Omya Sentinel and Butterfield Quarry Expansion project is the San Bernardino National Forest Supervisor, Jody Noiron.

Nature of Decision To Be Made

The Responsible Official will decide whether to approve the Amended Plan of Operations and Reclamation Plan following the environmental analysis. The Forest Service does not have the authority to remove the proponent's ability to mine their claim on National Forest System lands. The Responsible Official will also decide if an amendment to the San Bernardino National Forest Land Management Plan is required.

The County will decide whether to approve the Mining and Land Reclamation Plan Conditional Use Permit following the environmental analysis.

Scoping Process

This notice of intent initiates the scoping process, which guides the development of the EIR/EIS. The complete amended Plan of Operation and Reclamation Plan is available on the San Bernardino National Forest Web site at: http://www.fs.fed.us/nepa/fs-usda-pop.php/?project=32613.

Public Scoping meetings will be held on March 11, 2013 at the Big Bear Discovery Center, 40971 North Shore Drive (Highway 38), Fawnskin, California 92333 beginning at 5 p.m. PST, and March 12, 2013 at the Lucerne Valley Community Center, 33187 Highway 247 East, Lucerne Valley, California 92356 beginning at 5 p.m. PST.

It is important that reviewers provide their comments at such times and in such manner that they are useful to the agency's preparation of the EIR/EIS. Therefore, comments should be provided prior to the close of the comment period and should clearly articulate the reviewer's concerns and contentions.

Dated: February 21, 2013.
Jody Noiron,
Forest Supervisor.

[FR Doc. 2013-04648 Filed 2-27-13; 8:45 am]

BILLING CODE 3410-11-P